DEPARTMENT OF TRANSPORTATION

Federal Aviation Administration

14 CFR Part 39

[Docket No. FAA-2005-20689; Directorate Identifier 2004-NM-197-AD; Amendment 39-14655; AD 2006-13-03]

RIN 2120-AA64

Airworthiness Directives; Boeing Model 757 Airplanes

AGENCY: Federal Aviation Administration (FAA), Department of Transportation (DOT).

ACTION: Final rule.

SUMMARY: The FAA is adopting a new airworthiness directive (AD) for certain Boeing Model 757 airplanes. This AD requires, for certain airplanes, reworking the spar bonding path and reapplying sealant; and, for certain other airplanes, testing the electrical bond between the engine fuel feed hose and the wing front spar and, if applicable, reworking the spar bonding path and reapplying sealant. This AD also requires, for all airplanes, an inspection to ensure the electrical bonding jumper is installed between the engine fuel feed tube and the adjacent wing station. This AD also requires operators that may have installed an incorrect O-ring to install the correct part and do a re-test. This AD results from fuel system reviews conducted by the manufacturer. We are issuing this AD to prevent arcing or sparking at the interface between the bulkhead fittings of the engine fuel feed tube and the front spar during a lightning strike, which could provide a possible ignition source for the fuel vapor inside the fuel tank and result in a fuel tank explosion.

DATES: This AD becomes effective July 25, 2006.

The Director of the Federal Register approved the incorporation by reference of certain publications listed in the AD as of July 25, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Tom Thorson, Aerospace Engineer, Propulsion Branch, ANM-140S, Seattle Aircraft Certification Office, FAA, 1601 Lind Avenue, SW., Renton, Washington 98055-4056; telephone (425) 917-6508; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Boeing Model 757 airplanes. That supplemental NPRM was published in the Federal Register on April 4, 2006 (71 FR 16721). That supplemental NPRM proposed to require, for certain airplanes, reworking the spar bonding path and reapplying sealant; and, for certain other airplanes, testing the electrical bond between the engine fuel feed hose and the wing front spar and, if applicable, reworking the spar bonding path and reapplying sealant. That supplemental NPRM also proposed to require, for all airplanes, an inspection to ensure the electrical bonding jumper is installed between the engine fuel feed tube and the adjacent wing station. That supplemental NPRM also proposed to require operators that may have installed an incorrect O-ring to install the correct part and do a re-test.

Comments

We provided the public the opportunity to participate in the development of this AD. We have considered the comments received.

Request To Give Additional Credit for Original Issues of Service Bulletins

Boeing points out that the supplemental NPRM gives credit only for the actions in paragraph (h)(1) to operators who did the work in accordance with the original issue of Boeing Service Bulletins 757-28A0076 and 757-28A0077. (Boeing Service Bulletins 757-28A0076 and 757-28A0077, Revision 1, both dated October 20, 2005, were referenced as the appropriate source of service information for accomplishing the required actions.) Boeing states that the original issues of the service bulletins are also acceptable for compliance with the actions in paragraphs (g), (h)(2), and (i) of the supplemental NPRM. Boeing states that referring to paragraphs (g), (h)(2), and (i) would give credit for previous rework of the spar bonding path between the end fitting of the fuel hose and the front spar to meet the bonding resistance requirements and application of sealant to the end fitting of the fuel feed hose on the forward and aft sides of the front spar, and to the fitting and tube coupling on both sides of the dry bay wall, and previous inspection for installation of a bonding jumper in the tank.

We agree. The actions in paragraph (g), (h)(2), and (i) of the supplemental NPRM may be accomplished in accordance with the original issues of the service bulletins. We have revised paragraph (l) of the final rule to add a reference to paragraphs (g), (h)(2), and (i). In addition, the FAA notes that the actions in paragraph (j) of the final rule are still required to be done in accordance with Revision 1 of Boeing Service Bulletins 757-28A0076 and 757-28A0077.

Revised Service Bulletin Reference

Paragraph (l) of the supplemental NPRM gives the date of the original issue of Boeing Service Bulletins 757-28A0076 and 757-28A0077 as August 24, 2004. The actual date of the original issue of these service bulletins is August 27, 2004. We have revised paragraph (l) of the final rule to correct the date.

Conclusion

We have carefully reviewed the available data, including the comments received, and determined that air safety and the public interest require adopting the AD with the changes described previously. We have determined that these changes will neither increase the economic burden on any operator nor increase the scope of the AD.

Costs of Compliance

There are about 1,040 airplanes of the affected design in the worldwide fleet. This AD affects about 700 airplanes of U.S. registry. The average labor rate is estimated to be $80 per work hour. Parts would be supplied from operator stock. The following table provides the estimated costs for U.S. operators to comply with this AD.

Estimated Costs
Action/Airplanes affected | Work hours | Cost per airplane
Hose fitting and spar bonding rework and sealant application (Group 1 airplanes) | 11 | $880
Bonding test and sealant application (Group 2 airplanes that pass bonding test) | 12 | 960
Bonding test, hose fitting and spar bonding rework and sealant application (Group 2 airplanes that fail bonding test) | 18 | 1,440
Replace O-ring for airplanes that incorporated original release of the service bulletins | 3 | 240

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-13-03 Boeing: Amendment 39-14655. Docket No. FAA-2005-20689; Directorate Identifier 2004-NM-197-AD.

Effective Date

(a) This AD becomes effective July 25, 2006.

Affected ADs

(b) None.

Applicability

(c) This AD applies to Boeing Model 757-200, -200PF, and -200CB series airplanes as identified in Boeing Service Bulletin 757-28A0076, Revision 1, dated October 20, 2005; and Model 757-300 series airplanes as identified in Boeing Service Bulletin 757-28A0077, Revision 1, dated October 20, 2005; certificated in any category.

Unsafe Condition

(d) This AD results from fuel system reviews conducted by the manufacturer. We are issuing this AD to prevent arcing or sparking at the interface between the bulkhead fittings of the engine fuel feed tube and the front spar during a lightning strike, which could provide a possible ignition source for the fuel vapor inside the fuel tank and result in a fuel tank explosion.

Compliance

(e) You are responsible for having the actions required by this AD performed within the compliance times specified, unless the actions have already been done.

Service Bulletin References

(f) The term “service bulletin(s),” as used in this AD, means the Accomplishment Instructions of the following service bulletins, as applicable.

(1) For Model 757-200, -200CB, and -200PF series airplanes: Boeing Service Bulletin 757-28A0076, Revision 1, dated October 20, 2005.

(2) For Model 757-300 series airplanes: Boeing Service Bulletin 757-28A0077, Revision 1, dated October 20, 2005.

Hose Fitting and Spar Bonding Rework and Sealant Application

(g) For Group 1 airplanes as identified in the service bulletins: Within 60 months after the effective date of this AD, rework the spar bonding path between the end fitting of the fuel feed hose and the front spar, and apply sealant to the hose fitting on the forward and aft side of the front spar and to the fitting and tube coupling on both sides of the dry bay wall, in accordance with the applicable service bulletin.

Bonding Resistance Test

(h) For Group 2 airplanes as identified in the service bulletins: Within 60 months after the effective date of this AD, do a bonding resistance test between the fuel feed hose and the front spars of the left and right wings, in accordance with the service bulletins.

(1) If the test meets required resistance limits, before further flight, apply sealant to the end fitting of the fuel feed hose on the aft side of the front spar and to the fitting and tube coupling on both sides of the dry bay wall, in accordance with the applicable service bulletin.

(2) If the test does not meet required resistance limits, before further flight, remove any existing sealant at the front spar; rework the spar bonding path between the end fitting of the fuel feed hose and the front spar to meet bonding resistance test requirements; and apply sealant to the end fitting of the fuel feed hose on the forward and aft sides of the front spar, and to the fitting and tube coupling on both sides of the dry bay wall, in accordance with the applicable service bulletin.

Inspection of Electrical Bonding Jumper

(i) For all airplanes as identified in the service bulletins: Within 60 months after the effective date of this AD, perform a general visual inspection and applicable corrective actions to ensure that an electrical bonding jumper is installed between the engine fuel feed tube and the adjacent wing station 285.65 rib in the left and right wing fuel tanks, in accordance with the applicable service bulletin.

Replacement of O-Ring and Test

(j) For airplanes on which the actions in paragraphs (g) or (h)(2) of this AD were done before the effective date of this AD in accordance with the Accomplishment Instructions of Boeing Alert Service Bulletin 757-28A0076, dated August 27, 2004; and Boeing Alert Service Bulletin 757-28A0077, dated August 27, 2004; as applicable: Within 60 months after the effective date of this AD, replace the O-ring, part number (P/N) MS29513-330 with a new O-ring, P/N MS29513-328, and do a leak test before further flight after reassembly. Do all actions in accordance with Part B of the Accomplishment Instructions of the applicable service bulletin.

Exception to Accomplishment Instructions in Service Bulletins

(k) Although Boeing Service Bulletin 757-28A0076, Revision 1; and Boeing Service Bulletin 757-28A0077, Revision 1; both dated October 20, 2005, permit operator's equivalent procedures (OEP), this AD would require using the referenced airplane maintenance manuals, except that operators may use their own FAA-approved OEPs to drain the left and right engine fuel tubes, to drain and ventilate the fuel tanks, and to enter the fuel tanks.

Actions Accomplished in Accordance With Original Issues of Service Bulletins

(l) Actions done before the effective date of this AD in accordance with Boeing Alert Service Bulletin 757-28A0076 and Boeing Alert Service Bulletin 757-28A0077, both dated August 27, 2004, are acceptable for compliance with the corresponding requirements of paragraphs (g), (h)(1), (h)(2), and (i) of this AD.

Alternative Methods of Compliance (AMOCs)

(m)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(n) You must use Boeing Service Bulletin 757-28A0076, Revision 1, dated October 20, 2005; or Boeing Service Bulletin 757-28A0077, Revision 1, dated October 20, 2005; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 9, 2006.
Kalene C. Yanamura,
Acting Manager, Transport Airplane Directorate, Aircraft Certification Service.

[FR Doc. 06-5501 Filed 6-19-06; 8:45 am]

BILLING CODE 4910-13-P